DEPARTMENT OF ENERGY

National Energy Technology Laboratory; Notice of Availability of a Financial Assistance Solicitation

AGENCY: Department of Energy (DOE), National Energy Technology Laboratory (NETL).

ACTION: Notice inviting financial assistance applications.

SUMMARY: The Department of Energy announces that it intends to conduct a competitive Program Solicitation, DE-PS26-01NT41094, and award financial assistance (Cooperative Agreements) for the program entitled “Industries of the Future, Emerging Technology Deployment.” Through this solicitation, the DOE/NETL seeks applications on behalf of the DOE's Office of Energy Efficiency and Renewable Energy (EERE), Office of Industrial Technologies (OIT). The DOE/NETL, by way of the Federal Financial Assistance application process, is seeking proposals for cost-shared implementation of technologies to reduce energy consumption, enhance economic competitiveness, and reduce environmental impacts. The DOE/NETL targets, specifically, the Industries of the Future (IOF) industrial sectors for technology implementations under this solicitation. The IOF sectors consist of the following, nine major materials and processing industries: agriculture, aluminum, chemicals, forest products, glass, metalcasting, mining, petroleum, and steel.

This solicitation seeks to implement OIT-supported or non-OIT technologies that meet the following requirements: Address the needs in IOF vision documents and technology roadmaps; have completed research and development and have progressed through a demonstration at a pilot-scale or full-scale facility, with demonstrated performance benefits in energy conservation and emissions reductions; and have potential to result in significant improvements in energy efficiency, environmental performance, and economic competitiveness across the industry. Projects of most interest will be those that show significant energy savings and large market penetration either through multiple implementations within one industrial sector or broad applicability across all IOF sectors.

DATES: A draft Program Solicitation will be available on or about December 20, 2000. Comments and/or questions concerning the draft version must be submitted to, and received by the DOE Contract Specialist no later than 30 calendar days from its actual posting on DOE/NETL's Web site. The mailing and E-mail addresses are provided below.

ADDRESSES: The draft Program Solicitation will be available on the DOE/NETL's Internet address at http://www.netl.doe.gov/business/solicit. The final version of the solicitation along with all amendments will be posted at this same Internet address; applicants are therefore encouraged to periodically check this NETL address to ascertain the status of these documents. Applications must be prepared and submitted in accordance with the instructions and forms contained in the final version of this Program Solicitation.

FOR FURTHER INFORMATION CONTACT: Larry D. Gillham, MS: 921-118, U.S. Department of Energy, National Energy Technology Laboratory, 626 Cochrans Mill Road, PO Box 10940, Pittsburgh, PA 15236-0940, E-mail Address: gillham@netl.doe.gov, Telephone Number: (412) 386-5817.

SUPPLEMENTARY INFORMATION: The DOE anticipates award of multiple cost-sharing cooperative agreements; but the DOE reserves the right to award the agreement type and number deemed in its best interest. As required in Section 3002, Title XXX of the Energy Policy Act (EPAct), offerors are advised that mandatory 50% cost-share will be required for each project. Not all of the necessary funds are currently available for this solicitation; the Government's obligation under any cooperative agreement awarded is contingent upon the availability of appropriated FY2001 and FY2002 funds.

It is DOE's desire to encourage the widest participation including the involvement of small business concerns, and small disadvantaged business concerns. Proposals should be submitted by the entity that would house the technology implementation. In order to gain the necessary expertise to review proposals, non-Federal personnel may be used as evaluators or advisors in the evaluation of proposals, but will not serve as members of the technical merit review committee(s).

Issued in Pittsburgh, PA on November 30, 2000.
Dale A. Siciliano,
Deputy Director, Acquisition and Assistance Division.

[FR Doc. 00-31438 Filed 12-8-00; 8:45 am]

BILLING CODE 6450-01-P